FEDERAL COMMUNICATIONS COMMISSION

47 CFR Parts 1 and 76

[MB Docket Nos. 02-144; MM Docket Nos. 92-266, 93-215; CS Docket No. 94-28; FCC 25-33; FR ID 304837]

Cable Television Rates

AGENCY: Federal Communications Commission.

ACTION: Final rule; announcement of effective date.

SUMMARY: In this document, the Federal Communications Commission (FCC) announces that the Office of Management and Budget (OMB) has approved the information collection non-substantive changes under OMB Control Numbers 3060-0609 and 3060-0685, the discontinuance of OMB Control Numbers 3060-0607, 3060-0601, 3060-0594 and 3060-0688, and the effective date for amendments adopted by the Report and Order, FCC 25-33, 90 FR 31145 (Order), which were delayed. This document is consistent with the Order, which states that the Media Bureau will publish a document in the Federal Register announcing the effective date of the delayed amendments.

DATES: Amendatory instructions 2 (47 CFR 1.1204), 3 (47 CFR 1.1206), 5 (47 CFR 76.911), 6 (47 CFR 76.922), 10 (47 CFR 76.934), 15 (47 CFR 76.944), and 21 (47 CFR 76.990), published at 90 FR 31145 on July 14, 2025, are effective August 13, 2025.

FOR FURTHER INFORMATION CONTACT: For additional information on this proceeding, contact Katie Costello, Policy Division, Media Bureau at Katie.Costello@fcc.gov or (202) 418-2233.

SUPPLEMENTARY INFORMATION: This document announces that OMB approved the modifications to the information collection requirements in 47 CFR 76.934, the discontinuance of the information collection requirements in § 76.922, and the discontinuance of information collection requirements associated with discontinued FCC Forms 1200, 1220 and 1235 on July 15, 2025. This document also announces that OMB approved the discontinuance of information collection requirements for discontinued FCC Form 1210 on July 17, 2025. These forms were discontinued and these rule sections were modified in the Order, FCC 25-33, published at 90 FR 31145 on July 14, 2025. The Commission publishes this document as an announcement of the effective date of August 13, 2025 for 47 CFR 1.1204, 1.1206, 76.911, 76.922, 76.934, 76.944 and 76.990.

Synopsis

As required by the Paperwork Reduction Act of 1995 (44 U.S.C. 3507), the FCC is notifying the public that it received final OMB approvals on July 15, 2025 for the information collection requirements contained in 47 CFR 76.934, the discontinuance of information collection requirements in 47 CFR 76.922 and the discontinuance of information collection requirements for obsolete FCC Forms 1200, 1220 and 1235 and on July 17, 2025 for the discontinuance of information collection requirements for FCC form 1210. Further the FCC is notifying the public that revisions to 47 CFR 1.1204, 1.1206. 76.911, 76.922, 76.934, 76.944 and 76.990 are effective August 13, 2025. Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0601, 3060-0594, 3060-0688, 3060-0607, 3060-0609 and 3060-0685.

The foregoing notice is required by the Paperwork Reduction Act of 1995, Public Law 104-13, October 1, 1995, and 44 U.S.C. 3507.

Federal Communications Commission.
Marlene Dortch,
Secretary.

[FR Doc. 2025-14093 Filed 7-24-25; 8:45 am]

BILLING CODE 6712-01-P